DEPARTMENT OF COMMERCE

National Oceanic and Atmospheric Administration

Notice of Availability of a Final Programmatic Environmental Assessment for Funding Aquaculture Research and Development Projects and Finding of No Significant Impact

AGENCY: Office of Oceanic and Atmospheric Research (OAR), National Oceanic and Atmospheric Administration (NOAA), Department of Commerce (DOC).

ACTION: Notice of availability of a final programmatic environmental assessment for funding aquaculture research and development projects and finding of no significant impact.

SUMMARY: The National Oceanic and Atmospheric Administration, Office of Oceanic and Atmospheric Research (OAR) is issuing this notice to inform the public of the availability of the final programmatic environmental assessment (PEA) to fund aquaculture research and development projects and Finding of No Significant Impact (FONSI).

ADDRESSES: The Final PEA and FONSI may be viewed or downloaded from the NOAA Sea Grant NEPA and Environmental Compliance web page: https://seagrant.noaa.gov/NEPA.

FOR FURTHER INFORMATION CONTACT: Rebecca Briggs, Scientific Program Manager, National Sea Grant Office (Phone Number: (302) 927-2351) (Email: rebecca.briggs@noaa.gov).

SUPPLEMENTARY INFORMATION: In preparing the Final PEA, OAR has considered 18 public comments received on the Draft PEA, which was published in the Federal Register (87 FR 68441) for a 30-day comment period, from November 15, 2022 to December 15, 2022.

The Proposed Action analyzed in the Final PEA is to issue Federal financial assistance awards through existing programs within the OAR (Sea Grant, SBIR) and NMFS Office of Aquaculture (OAQ) for aquaculture research and development projects involving farmed and wild populations of aquatic organisms in permitted aquaculture facilities and sites, research laboratories, the Great Lakes and associated freshwater areas, and ocean and coastal environments within the Exclusive Economic Zone (EEZ) of the United States and its territories.

The Final PEA incorporates, where appropriate, agency and public comments received on the Draft PEA, which was available for public review from November 15, 2022, to December 15, 2022. During the public comment period of the Draft PEA, NOAA received 18 comments. NOAA responses to the public comments are provided in appendix A of the Final PEA. All recommended changes incorporated as a result of comments received were to provide further clarification.

The analysis in the Final PEA and FONSI concludes that none of the project types of the Proposed Action alternative have the potential for significant impacts. The Final PEA assesses the direct, indirect, and cumulative environmental impacts of issuing Federal financial assistance awards for aquaculture research and development projects that fall within the five project types: Outreach, Education, and Planning; Data Analysis and Social Science Research; Laboratory and Rearing Science and Research on Finfish and Shellfish; Field Research and Assessments; and Shellfish Aquaculture Restoration. However, the Final PEA does not predict the impacts of specific projects. Each financial award proposal would be evaluated using this Final PEA on a project-specific basis to determine if it falls within its scope of analysis and impacts. If a project does not fall within the scope of this Final PEA, a separate NEPA review will be conducted.

This document has been prepared in compliance with the National Environmental Policy Act of 1969 (NEPA), the 1978 Council on Environmental Quality (CEQ) Regulations (40 Code of Federal Regulations [CFR] 1500-1508), and NOAA policy and procedures (NOAA Administrative Order 216-6A (NAO 216-6A) and its Companion Manual (CM)).

David Holst,
Chief Financial Officer/Administrative Officer, Office of Oceanic and Atmospheric Research, National Oceanic and Atmospheric Administration.

[FR Doc. 2023-09827 Filed 5-8-23; 8:45 am]

BILLING CODE 3510-KD-P